DEPARTMENT OF AGRICULTURE

Forest Service

Siuslaw Resource Advisory Committee Meeting

AGENCY: Forest Service, USDA.

ACTION: Notice of meeting.

SUMMARY: The Siuslaw Resource Advisory Committee (RAC) will meet on January 25, 2002. The meeting will begin at 9:30 a.m., in the Siuslaw Valley Fire & Rescue Station, 2625 Highway 101 N., Florence, OR. Agenda items will include: Federal Advisory Committee Act (FACA) Overview; Roles and Responsibilities for Advisory Committees; Rules/Operational Guides/Bylaws; “The RAC Guidebook;” How to Stay Connected/Means of Communication; Flow of Work (Future Agendas & Meeting Dates); Project Process & Contracting; Election of RAC Chairperson; and Public Forum (at approximately 3:20 p.m.). The meeting is expected to adjourn at 4:00 p.m. Interested citizens are encouraged to attend.

FOR FURTHER INFORMATION CONTACT: Linda Stanley, Community Development Specialist, Siuslaw National Forest, 541/750-7210 or write to Forest Supervisor, Siuslaw National Forest, P.O. Box 1148, Corvallis, OR 97339.

Dated: December 19, 2001.
Gloria D. Brown,
Forest Supervisor.

[FR Doc. 01-31738 Filed 12-26-01; 8:45 am]

BILLING CODE 3410-11-M